FEDERAL TRADE COMMISSION

16 CFR Chapter I

Regulatory Review Schedule

AGENCY: Federal Trade Commission.

ACTION: Intent to request public comments.

SUMMARY: As part of its ongoing, systematic review of all Federal Trade Commission rules and guides, the Commission announces a modified ten-year regulatory review schedule. No Commission determination on the need for, or the substance of, the rules and guides listed below should be inferred from this notice.

DATES: February 20, 2018.

FOR FURTHER INFORMATION CONTACT: Further details about particular rules or guides may be obtained from the contact person listed below for the rule or guide.

SUPPLEMENTARY INFORMATION: To ensure that its rules and industry guides remain relevant and are not unduly burdensome, the Commission reviews them on a ten-year schedule. Each year the Commission publishes its review schedule, with adjustments made in response to public input, changes in the marketplace, and resource demands.

When the Commission reviews a rule or guide, it publishes a document in the Federal Register seeking public comment on the continuing need for the rule or guide, as well as the rule's or guide's costs and benefits to consumers and businesses. Based on this feedback, the Commission may modify or repeal the rule or guide to address public concerns or changed conditions, or to reduce undue regulatory burden.

The Commission posts information about its review schedule on its website ¹ to facilitate comment. This website contains an updated review schedule, a list of rules and guides previously eliminated in the regulatory review process, and the Commission's regulatory review plan.

¹ http://www.ftc.gov/enforcement/rules/regulatory-review.

Modified Ten-Year Schedule for Review of FTC Rules and Guides

For 2018, the Commission intends to initiate reviews of, and solicit public comments on, the following rules and guides:

(1) Guides for the Nursery Industry, 16 CFR part 18. Agency Contact: Megan Gray, (202) 326-3408, Federal Trade Commission, Bureau of Consumer Protection, Division of Enforcement, 600 Pennsylvania Ave. NW, Washington, DC 20580.

(2) Test Procedures and Labeling Standards for Recycled Oil, 16 CFR part 311. Agency Contact: Hampton Newsome, (202) 326-2889, Federal Trade Commission, Bureau of Consumer Protection, Division of Enforcement, 600 Pennsylvania Ave. NW, Washington, DC 20580.

(3) Disclosure Requirements and Prohibitions Concerning Franchising, 16 CFR part 436. Agency Contact: Craig Tregillus, (202) 326-2970, Federal Trade Commission, Bureau of Consumer Protection, Division of Marketing Practices, 600 Pennsylvania Ave. NW, Washington, DC 20580.

(4) Identity Theft [Red Flag] Rules, 16 CFR part 681. Agency Contact: Tiffany George, (202) 326-3040, Federal Trade Commission, Bureau of Consumer Protection, Division of Privacy and Identity Protection, 600 Pennsylvania Ave. NW, Washington, DC 20580.

The Commission is currently reviewing 11 of the 65 rules and guides within its jurisdiction. During 2017, it completed a review of 16 CFR 259, Guide Concerning Fuel Economy Advertising for New Automobiles; and 16 CFR 682, Disposal of Consumer Report Information and Records. A copy of the Commission's modified regulatory review schedule, indicating initiation dates for reviews through 2028, is appended. The Commission, in its discretion, may modify or reorder the schedule in the future to incorporate new rules, or to respond to external factors (such as changes in the law) or other considerations.

Authority: 15 U.S.C. 41-58.

By direction of the Commission.
Donald S. Clark,
Secretary.

Appendix

Regulatory Review

Modified Ten-Year Schedule
16 CFR part | Topic | Year to initiate review
23 | Guides for the Jewelry, Precious Metals, and Pewter Industries | Currently Under Review.
308 | Trade Regulation Rule Pursuant to the Telephone Disclosure and Dispute Resolution Act of 1992 [Pay Per Call Rule] | Currently Under Review.
310 | Telemarketing Sales Rule | Currently Under Review.
314 | Standards for Safeguarding Customer Information | Currently Under Review.
315 | Contact Lens Rule | Currently Under Review.
316 | CAN-SPAM Rule | Currently Under Review.
410 | Deceptive Advertising as to Sizes of Viewable Pictures Shown by Television Receiving Sets | Currently Under Review.
423 | Care Labeling of Textile Wearing Apparel and Certain Piece Goods | Currently Under Review.
433 | Preservation of Consumers' Claims and Defenses [Holder in Due Course Rule] | Currently Under Review.
456 | Ophthalmic Practice Rules (Eyeglass Rule) | Currently Under Review.
460 | Labeling and Advertising of Home Insulation | Currently Under Review.
18 | Guides for the Nursery Industry | 2018.
311 | Test Procedures and Labeling Standards for Recycled Oil | 2018.
436 | Disclosure Requirements and Prohibitions Concerning Franchising | 2018.
681 | Identity Theft [Red Flag] Rules | 2018.
24 | Guides for Select Leather and Imitation Leather Products | 2019.
453 | Funeral Industry Practices | 2019.
14 | Administrative Interpretations, General Policy Statements, and Enforcement Policy Statements | 2020.
255 | Guides Concerning Use of Endorsements and Testimonials in Advertising | 2020.
313 | Privacy of Consumer Financial Information | 2020.
317 | Prohibition of Energy Market Manipulation Rule | 2020.
318 | Health Breach Notification Rule | 2020.
432 | Power Output Claims for Amplifiers Utilized in Home Entertainment Products | 2020.
444 | Credit Practices | 2020.
640 | Duties of Creditors Regarding Risk-Based Pricing | 2020.
641 | Duties of Users of Consumer Reports Regarding Address Discrepancies | 2020.
642 | Prescreen Opt-Out Notice | 2020.
660 | Duties of Furnishers of Information to Consumer Reporting Agencies | 2020.
680 | Affiliate Marketing | 2020.
698 | Model Forms and Disclosures | 2020.
801 | [Hart-Scott-Rodino Antitrust Improvements Act] Coverage Rules | 2020.
802 | [Hart-Scott-Rodino Antitrust Improvements Act] Exemption Rules | 2020.
803 | [Hart-Scott-Rodino Antitrust Improvements Act] Transmittal Rules | 2020.
437 | Business Opportunity Rule | 2021.
233 | Guides Against Deceptive Pricing | 2022.
238 | Guides Against Bait Advertising | 2022.
251 | Guide Concerning Use of the Word “Free” and Similar Representations | 2022.
260 | Guides for the Use of Environmental Marketing Claims | 2022.
312 | Children's Online Privacy Protection Rule | 2022.
254 | Guides for Private Vocational and Distance Education Schools | 2023.
309 | Labeling Requirements for Alternative Fuels and Alternative Fueled Vehicles | 2023.
429 | Rule Concerning Cooling-Off Period for Sales Made at Homes or at Certain Other Locations | 2023.
20 | Guides for the Rebuilt, Reconditioned, and Other Used Automobile Parts Industry | 2024.
240 | Guides for Advertising Allowances and Other Merchandising Payments and Services [Fred Meyer Guides] | 2024.
300 | Rules and Regulations under the Wool Products Labeling Act of 1939 | 2024.
301 | Rules and Regulations under Fur Products Labeling Act | 2024.
303 | Rules and Regulations under the Textile Fiber Products Identification Act | 2024.
425 | Use of Prenotification Negative Option Plans | 2024.
435 | Mail, Internet, or Telephone Order Merchandise | 2024.
424 | Retail Food Store Advertising and Marketing Practices [Unavailability Rule] | 2024.
239 | Guides for the Advertising of Warranties and Guarantees | 2025.
306 | Automotive Fuel Ratings, Certification and Posting | 2025.
305 | Energy Labeling Rule | 2025.
500 | Regulations under Section 4 of the Fair Packaging and Labeling Act | 2025.
501 | Exemptions from Requirements and Prohibitions under Part 500 | 2025.
502 | Regulations under Section 5(c) of the Fair Packaging and Labeling Act | 2025.
503 | Statements of General Policy or Interpretation [under the Fair Packaging and Labeling Act] | 2025.
700 | Interpretations of Magnuson-Moss Warranty Act | 2025.
701 | Disclosure of Written Consumer Product Warranty Terms and Conditions | 2025.
702 | Pre-Sale Availability of Written Warranty Terms | 2025.
703 | Informal Dispute Settlement Procedures | 2025.
304 | Rules and Regulations under the Hobby Protection Act | 2026.
455 | Used Motor Vehicle Trade Regulation Rule | 2026.
259 | Guide Concerning Fuel Economy Advertising for New Automobiles | 2027.
682 | Disposal of Consumer Report Information and Records | 2027.

[FR Doc. 2018-03395 Filed 2-16-18; 8:45 am]

BILLING CODE 6750-01-P